POSTAL RATE COMMISSION

39 CFR Part 3001

[Docket No. RM2001-3; Order No. 1319]

Rules of Practice and Procedure

AGENCY: Postal Rate Commission.

ACTION: Request for comments on expired rules.

SUMMARY: Several Commission rules on expedited consideration of Postal Service requests for recommended decisions have expired. The Commission seeks comments on whether these rules should be re-issued. After evaluation of the comments, the Commission anticipates issuing a notice of proposed rulemaking addressing the expired rules.

DATES: Comments are due by August 21, 2001.

ADDRESSES: Send comments to Steven W. Williams, Acting Secretary, Postal Rate Commission, 1333 H Street, NW., Suite 300, Washington, DC 20268-0001.

FOR FURTHER INFORMATION CONTACT: Stephen L. Sharfman, General Counsel, 202-789-6820.

SUPPLEMENTARY INFORMATION: In two unrelated rulemakings, the Commission amended its rules of practice, 39 CFR 3001.1 et seq., to provide for expedited consideration of certain Postal Service requests for a recommended decision. The first, adopted in 1989, concerned changes in Express Mail rates and fees. The second, adopted in 1996, entailed four rules designed to address certain types of classification changes. These five rules contain a common thread; each includes a five-year sunset provision; each of these rules has now expired.

By this notice, the Commission solicits comments from interested persons concerning the advisability of reissuing some or all of these rules. The rules are briefly described below.¹

¹ The Commission is distributing the relevant rules with this order to the service list in the most recent omnibus rate case, docket no. R2000-1, as a convenience to those parties.

1. Market Response Rate Requests for Express Mail Service

Rules 57 through 57c govern Postal Service requests for an expedited recommended decision on changes in Express Mail rates and fees. These rules were adopted in response to a Postal Service petition requesting the Commission to initiate a rulemaking to implement special rules designed to consider changes in Express Mail rates prompted by changes in market conditions. See order no. 836, docket no. RM88-2, August 10, 1989. The rules provide for a compressed procedural schedule under which the Commission is to consider the Postal Service's market rate request within 90 days of its filing. Rule 57c; see also rule 57b(e)(5). As adopted, the rules were designed, consistent with due process, to expedite consideration of proposed changes in Express Mail rates occasioned by market conditions for the purpose of minimizing the loss of Express Mail's contribution to institutional costs recommended in the most recent omnibus rate case. Rule 57(a). The rules included a sunset provision limiting their effectiveness for a period of five years from the date of their adoption by the Commission. Rule 57(b).

In August 1994, on or about the date the rules expired, the Postal Service requested the Commission to institute a rulemaking proceeding to reissue the rules. After notice and comment, the Commission reissued the rules, including the sunset provision. Order no. 1042, docket no. RM95-1, February 17, 2000. The reissued rules (57 through 57c) expired March 6, 2000.

The Postal Service never invoked these rules. Nor has it sought to have them reissued after their expiration in March 2000.

2. Limited Classification Changes

In April 1995, the Postal Service petitioned the Commission to initiate a rulemaking involving changes or additions to the Commission's procedural rules concerning limited rate and classification matters. The petition drew heavily on a report, “Postal Ratemaking in a Time Change,” issued by the Joint Task Force on Postal Ratemaking, June 1, 1992. In an advance notice of proposed rulemaking the Commission requested comments on the Postal Service's petition. 60 FR 22017, May 4, 1995. Following the receipt of comments by interested parties, the Commission issued a notice of proposed rulemaking in which it proposed specific amendments to its rules of practice designed to expedite consideration of certain limited classification-related changes requested by the Postal Service. Order no. 1084, docket no RM95-4, October 13, 1995. Thereafter, in a final rule issued, in May 1996, the Commission adopted three separate set of rules designed to facilitate expedited review of Postal Service requests concerning market tests provisional service changes of limited duration, and minor classification changes. Order no. 1110, docket no. RM95-4, May 7, 1996. In addition, the Commission adopted a rule permitting the Postal Service to request use of multi-year test period for a new services. Id. at 19-22. Each of these rules included a five-year sunset provision. Each has expired.

A. Market Tests of Proposed Mail Classification Changes

Rules 161 through 166 govern requests by the Postal Service to permit market testing of a proposed service change to develop information necessary to support a permanent classification change. Among other things, these rules, which pertain exclusively to the Commission's determination to recommend for or against the market test, identify the data to be provided, e.g., such data as are necessary to fully inform the Commission and the parties of the nature and impact of the market test (rule 162); outline the procedures to be followed (rule 163); and provide a rule for decision under which the Commission has 90 days to consider the proposed market test (rule 164). Absent good cause, the Commission shall not recommend market tests of more than one-year duration. Rule 161(b).

The Postal Service invoked these rules once. In docket no. MC98-1, Mailing Online Service, the Postal Service sought to conduct a market test of a proposed mailing online service prior to its introduction as an experimental mail classification. The Commission approved the proposed market test. PRC Op. MC98-1, October 7, 1998. The Postal Service, however, encountered technical difficulties in its market test, and, as result, withdrew its proposal to conduct an expanded Mailing Online experiment. Subsequently, in November 1999, the Postal Service filed docket no. MC2000-2 to implement a nationwide Mailing Online experiment.

B. Provisional Service Changes of Limited Duration

Rules 171 through 176 govern requests for the establishment of a provisional service to supplement, but not alter, existing mail classifications and rates for a limited and fixed duration. The requirements of these rules are generally similar to those for market tests, e.g., identifying the data to be provided, the procedures to be followed, and the timetable for decision. See rules 172-74. Provisions service changes are limited to a duration of no more than two years, which, upon request, may be extended for an additional year if a Postal Service request to establish the provisional service as a permanent mail classification is pending before the Commission. See rule 171(a).

The Postal Service has employed these rules once. In docket no. MC97-5, the Postal Service requested a provisional classification and fee schedule for a packaging service under which mailers would bring items to selected post offices for packing prior to mailing as parcels. The Commission recommended the provisional service, albeit with modifications. PRC Op. MC97-5, March 31, 1998. The Governors have not acted on this recommended decision.

C. Minor Classification Cases

Rules 69 through 69c provide for expedited review of Postal Service requests for a recommended decision of minor mail classification changes. A change is considered minor if it: involves no change in an existing rate or fee, would impose no new eligibility requirements on a subclass or rate category, and would not significantly affect the institutional cost contribution of the affected subclass or rate category. These rules, while differing somewhat from those for the other expedited proceedings, do describe the data to be filed and the procedures to be followed. Rules 69a-69b. The rules prescribe a timetable for the Commission to decide whether to treat the request as a minor classification change. Rule 69b(f). In addition, the rules provide for a recommended decision no later than 120 days after the filing of the request. Rule 69c. The Postal Service has employed these rules once. In docket no. MC99-4, the Postal Service sought expedited review of its request for a classification change expanding the availability of Bulk Parcel Return Service (BPRS). An unopposed stipulation and agreement formed the basis of the Commission's recommended decision in that proceeding. PRC Op. MC99-4, August 19, 1999; see also Governors' Decision, Docket No. MC99-4, August 30, 1999.

D. Multi-Year Test Periods

Subpart K of the Commission's rules, rules 181 and 182, authorizes the Postal Service to request an extended test period (of up to five years) for the purposes of determining breakeven of a proposed new postal service. Rule 181. Among other things, the Postal Service must justify its request through testimony and other documentary support. Rule 182.

The Postal Service has never invoked the multi-year test period rules.

3. Request for Comments

The rules, which were initiated at the Postal Service's request, were designed to provide the Postal Service with procedural options to facilitate expedited consideration of certain proposals. The rules have been invoked sparingly or not at all. The question, therefore, arises whether the rules or some of them have sufficient value to warrant reissuing them. Consequently, as part of its review process, the Commission requests comments on which of these rules, if any, should be reissued. Comments are due no later than August 21, 2001. Following receipt of comments, the commission will, if warranted, issue a notice of proposed rulemaking to revise its rules of practice and procedure.

Ted P. Gerarden, director of the office of the consumer advocate, is designated to represent the interests of the general public in this docket. It is ordered:

1. Interested persons may submit comments by no later than April 21, 2001, on which of the foregoing rules, if any, should be reissued.

2. Ted P. Gerarden, director of the office of the consumer advocate, is designated to represent the interests of the general public in this docket.

3. The acting secretary shall cause this notice and order concerning the rules of practice to be published in the Federal Register.

By the Commission.
Dated: July 19, 2001.
Garry J. Sikora,
Acting Secretary.

[FR Doc. 01-18454 Filed 7-24-01; 8:45 am]

BILLING CODE 7715-01-M